DEPARTMENT OF HEALTH AND HUMAN SERVICES

Centers for Disease Control and Prevention

[Program Announcement 01042]

The Development and Implementation of the Directly-Observed Treatment, Short-Course Strategy by the Private Sector in the Philippines;Notice of Availability of Funds

A. Purpose

The Centers for Disease Control and Prevention (CDC) announces the availability of fiscal year (FY) 2001 funds for a cooperative agreement program for the development and implementation of the directly observed treatment, short-course (DOTS) strategy by the private sector in the Philippines. This program addresses the “Healthy People 2010” focus area of Immunization and Infectious Diseases. For a copy of “Healthy People 2010”, visit the internet site: http://www.health.gov/healthypeople.

The purpose of this program is two-fold: (1) To develop several directly-observed treatment, short-course (DOTS) models designed for the private health-care system in years one and two; and (2) to implement and evaluate these pilot approaches in years two and three in a major urban area in the Philippines.

Since there are no existing private-sector models for DOTS, this program will support the development, implementation and evaluation pilot DOTS models designed for the private health-care system in a major urban area in the Philippines.

The elimination of tuberculosis (TB) in the United States (U.S.) is directly linked to the control of TB in immigrants' countries of origin. In 1999, 43 percent of all TB cases were identified in persons who were born in a foreign country; the Republic of the Philippines was the second ranking country of origin.

In a recent report, TB rates in the Philippines were determined to be some of the highest in the world. Given current U.S. immigration patterns, direct technical assistance to the Philippines for improving TB control is justified and considered essential by the Division of Tuberculosis Elimination (DTBE), Centers for Disease Control and Prevention (CDC) to meet medium and long-term domestic mission targets. This support and assistance directly involves the Philippines Department of Health (PDOH). The PDOH is rapidly instituting the World Health Organization's national case management strategy to improve TB control. Directly observed treatment, short-course (DOTS), strategy calls for (i) national political commitment, (ii) passive case detection by smear microscopy, (iii) a standardized free-of-charge, short-course (six months) chemotherapy administered by direct observation (DOTS), (iv) a regular supply of antituberculosis drugs, and (v) an integrated reporting and evaluation system.

DOTS has been demonstrated to be effective when a significant proportion of the population has access. Currently, most people in the Philippines seek TB care from the private sector health-care system and continue to receive care in this system. The incidence of TB is greater in urban areas than it is in rural areas. Recent informal surveys suggest that little of the private sector health care delivery system utilizes the critical components of DOTS. This leads to inadequate treatment, increased death and morbidity, increased transmission, and increasingly the generation of drug resistant strains of TB. In addition, despite success in the public sector health-care system, it is highly unrealistic in the Philippines to expect that the majority of persons seeking care in the private sector health-care system will seek care in the public sector health-care system or be referred to the public sector health-care system by their private physicians if TB is suspected. Although not a part of the World Health Organization (WHO) DOTS strategy, the PDOH recognizes that the private-sector must be included in TB control for DOTS to improve TB control in the Philippines.

B. Eligible Applicants

Applications may be submitted by public and private nonprofit organizations, universities, colleges, research institutions and hospitals currently located in the Philippines. These entities should be distinct legal organizations that are registered with the Philippines Security and Exchange Commission.

C. Availability of funds

Approximately $68,000 is available for FY 2001 to fund this award. The award is anticipated to begin on or about June 30, 2001 for a 12-month budget period within a three-year project period. It is anticipated that $100,000 will be available in FY 2002. (This second year funding will be available after October 1, 2001.) However, this and funding for subsequent years will be dependent on satisfactory progress, independent evaluation by DTBE and the United States Agency for International Development, and the availability of funds. (Funding amounts for subsequent years have not been finalized.) Funding estimates may change.

D. Program Requirements

In conducting activities to achieve the purpose of this program, the recipient will be responsible for the activities under 1. (Recipient Activities), and CDC will be responsible for the activities listed under 2. (CDC Activities).

1. Recipient Activities

a. Develop several private-sector DOTS models and the related administrative infrastructure for TB control in a large metropolitan area of the Philippines.

b. Collaborate with the PDOH, WHO, USAID and other public and private-sector entities in the Philippines.

c. At the end of one year of funding, identify and propose project activities to implement and evaluate private-sector DOTS models to the CDC.

d. Implement and evaluate private-sector DOTS models in subsequent years.

Continuation awards within the project period will be made on the basis of the following criteria:

(1) Satisfactory progress in meeting project objectives;

(2) Objectives for the new budget period are realistic, specific, and measurable;

(3) Proposed changes in described methods of operation, need for financial support, and/or evaluation procedures will lead to achievement of project objectives; and

(4) The budget request is clearly justified and consistent with the intended use of cooperative agreement funds.

2. CDC Activities

a. CDC will provide assistance in the development and implementation of the private-sector DOTS models. These might include:

(1) participation in meetings and review of proposals to develop DOTS models.

(2) site visits before, during, and after pilot implementation to provide training and assistance with the analysis and dissemination of lessons learned.

(3) collaborative assistance in all aspects of the evaluation phase.

E. Application Content

Use the information in the Program Requirements, Other Requirements, and Evaluation Criteria sections to develop the application content. Your application will be evaluated on the criteria listed, so it is important to follow them in laying out your program plan. The narrative should be written in English, follow the outline below and be no longer than twelve double-spaced pages(excluding appendices and attachments) printed on one side, with 2.5 cm margins and 12 CPI font.

1. General Objective: one sentence that describes the project.

2. Background and Rationale: A brief section of several paragraphs that describe activities for the first two years. Describe the organization carrying out the proposal. Listing a plan for year three is not necessary.

3. Proposed Models/Methods: Describe each of several models and the plans to develop these models (one paragraph each). Describe the necessary relationship with other key organizations or industries required for the implementation of each model. Include a time line in table format with a separate brief timetable description for the first 12 months.

4. Evaluation Plan: Briefly, discuss the plan for monitoring progress toward each of the objectives.

5. Project Leaders: List project leaders and their affiliations. Outside of the page limit, include letters of support.

6. Budget: Submit a brief line item budget breakdown and narrative justification that is consistent with program purpose and proposed activities for year one. Include an estimate of second year requirements.

F. Submission and Deadline

Submit the original and two copies of the application PHS form 5161-1 (OMB Number 0937-0189). Forms are available at the following Internet address: www.cdc.gov/...Forms, or in the application kit. On or before July 1, 2001, submit the application to the Grants Management Specialist identified in the “Where to Obtain Additional Information” section of this announcement.

Deadline: Applications shall be considered as meeting the deadline if they are either:

(a) Received on or before the deadline date, or

(b) Sent on or before the deadline date and received in time for submission to the objective review committee. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC:

1. Extent to which the applicant demonstrates an understanding of the requirements, problems, objectives, complexities, and interactions required of this project. (20 Points)

2. Degree to which the proposed objectives are clearly stated, realistic, time phased, and related to the purpose of this project. (20 points)

3. Appropriateness and thoroughness of the workplan and time-line for administering this project. (30 points)

This cooperative agreement enables the development and pilot implementation of TB control programs in the private-sector in the Philippines. The report and dissemination of information and lessons learned are considered program evaluation (and not a research activity) as determined by NCHSTP/CDC. It is not anticipated that a research activity will be funded from the support from this cooperative agreement.

4. Appropriate qualifications, experience, leadership ability, and percentage of time project director will commit to the project. (15 points)

5. Appropriate qualifications, experience and description of how staff will be utilized in relation to the activities to be performed to accomplish the work and their percentage of time to be spent on the project; curriculum vitaes should be provided. (15 points)

6. Budget: The extent to which the budget relates directly to project activities, is clearly justified, and is consistent with intended use of funds. The budget should include funds for (to be included). (Not Scored)

H. Other Requirements

Technical Reporting Requirements

Provide the CDC with original and two copies of:

1. Annual progress reports. Progress reports must include the following for each program, function, or activity involved:

a. a comparison of actual accomplishments to the goals established for the period;

b. the reasons for slippage if the established goals are not met; and

c. other pertinent information including, when appropriate, analysis and explanation of unexpected high costs of performance.

2. Financial Status Report no more than 90 days after the end of first year budget period; and

3. Final financial and performance reports no more than 90 days after the end of the project period. Send all reports to the Grants and Management Specialist identified in the “Where to Obtain Additional Information” section of this announcement.

The following additional requirements are applicable to this announcement.

AR-4 HIV/AIDS Confidentiality Provisions

AR-5 HIV Program Review Panel Requirements

AR-9 Paperwork Reduction Act Requirements

AR-10 Smoke-Free Workplace Requirements

AR-11 Healthy People 2010

AR-12 Lobbying

I. Authority and catalog of federal Domestic Assistance

This program is authorized under sections 301 and 307 of the Public Health Service Act. The Catalog of Federal Domestic Assistance Number is 93.947, TB Demonstration, Research, Public and Professional Education Projects.

J. Where To Obtain Additional Information

This and other CDC announcements can be found on the CDC home page Internet address—http://www.cdc.gov. Click on “Funding” then “Grants and Cooperative Agreements.”

To receive additional written information and to request an application kit, call 1-888-GRANTS4 (1-888 472-6874). You will be asked to leave your name and address and will be instructed to identify the Announcement number of interest.

If you have questions after reviewing the contents of all the documents, business management technical assistance may be obtained from: Mattie B. Jackson, Grants Management Specialist, Grants Management Branch, Procurement and Grants Office, Centers for Disease Control and Prevention, 2920 Brandywine Road, Room 3000, Atlanta, GA 30341-4146, Telephone number: (770) 488-2696, Email address: mij3@cdc.gov.

For program technical assistance, contact: Michael F. Iademarco, MD, MPH or Michael L. Qualls, MPH, Division of Tuberculosis Elimination, Centers for Disease Control and Prevention, 1600 Clifton Road, Mailstop E-10, Atlanta, GA 30333, Telephone number:(404)639-8120, Email addresses: miademarco@cdc.gov mqualls@cdc.gov.

Dated: May 17, 2001.
John L. Williams,
Director, Procurement and Grants Office, Centers for Disease Control and Prevention (CDC).

[FR Doc. 01-12985 Filed 5-22-01; 8:45 am]

BILLING CODE 4163-18-P